DEPARTMENT OF AGRICULTURE

Forest Service

Lassen County Resource Advisory Committee

AGENCY: Forest Service, USDA.

ACTION: Notice of meeting.

SUMMARY: The Lassen County Resource Advsiory will meet in Susanville, CA. The committee is meeting as authorized under the Secure Rural Schools and Community Self-Determination Act (Pub. L. 110-343) and in compliance with the Federal Advisory Committee Act. The business meeting is in preparation for the next funding cycle.

DATES: The meeting will be held November 10, 2010 from 9 a.m. to 12 a.m.

ADDRESSES: The meeting will be held at the Lassen National Forest Supervisor's Office in the Caribou Conference Room at 2550 Riverside Drive, Susanville, CA.

FOR FURTHER INFORMATION CONTACT: Heidi Perry, Public Affairs Officer for the Lassen National Forest at 530-252-6604 or hperry@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public.

Dated: October 15, 2010.
Jerry Bird,
Forest Supervisor.

[FR Doc. 2010-26891 Filed 10-22-10; 8:45 am]

BILLING CODE 3410-11-P